DEPARTMENT OF HOMELAND SECURITY

U.S. Citizenship and Immigration Services

[CIS No. 2706-21; DHS Docket No. USCIS-2022-0014]

RIN 1615-ZB96

Designation of Ethiopia for Temporary Protected Status

AGENCY: U.S. Citizenship and Immigration Services (USCIS), Department of Homeland Security (DHS).

ACTION: Notice of Temporary Protected Status (TPS) designation.

SUMMARY: Through this notice, the Department of Homeland Security (DHS) announces that the Secretary of Homeland Security (Secretary) is designating Ethiopia for Temporary Protected Status (TPS) for 18 months, beginning on December 12, 2022 and ending on Wednesday, June 12, 2024. This designation allows Ethiopian nationals (and individuals having no nationality who last habitually resided in Ethiopia) who have continuously resided in the United States since October 20, 2022, and who have been continuously physically present in the United States since December 12, 2022 to apply for TPS.

DATES:

Designation of Ethiopia for TPS: The 18-month designation of Ethiopia for TPS begins on December 12, 2022 and will remain in effect for 18 months, ending Wednesday, June 12, 2024.

Registration: The registration period for individuals to submit TPS applications under the designation of Ethiopia for TPS begins on December 12, 2022 and will remain in effect through Wednesday, June 12, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at https://www.uscis.gov/tps. You can find specific information about Ethiopia's TPS designation by selecting “Ethiopia” from the menu on the left side of the TPS web page.

If you have additional questions about TPS, please visit https://uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at https://uscis.gov, or visit the USCIS Contact Center at https://www.uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Ethiopia (or individuals having no nationality who last habitually resided in Ethiopia) to submit an initial registration application under the designation and apply for an Employment Authorization Document (EAD).

Under this designation, individuals may submit an initial application during the initial registration period that runs from December 12, 2022 and runs through the full length of the designation period ending Wednesday, June 12, 2024.¹ In addition to demonstrating continuous residence in the United States since October 20, 2022 and meeting other eligibility criteria, initial applicants for TPS under this designation must demonstrate that they have been continuously physically present in the United States since December 12, 2022,² the effective date of this designation of Ethiopia, before USCIS may grant them TPS. DHS estimates that approximately 26,730 individuals may become eligible for TPS under the designation of Ethiopia.

¹ In general, individuals must be given an initial registration period of no less than 180 days to register for TPS, but the Secretary has discretion to provide for a longer registration period. See INA § 244(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has exercised his discretion to provide for a TPS initial registration period that coincides with the full period of Ethiopia's designation.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA § 244(b)(2)(A) (effective date of designation); Id. §§ 244(c)(1)(A)(i)-(ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to work so long as they continue to meet the requirements of TPS. They may apply for and receive EADs as evidence of employment authorization.

• TPS beneficiaries may also apply for and be granted travel authorization as a matter of DHS discretion.

• To qualify for TPS, beneficiaries must meet the eligibility standards at INA sections 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

What authority does the Secretary have to designate Ethiopia for TPS?

Section 244(b)(1) of the INA, 8 U.S.C. 1254a(b)(1), authorizes the Secretary, after consultation with appropriate agencies of the U.S. Government, to designate a foreign state (or part thereof) for TPS if the Secretary determines that certain country conditions exist.³ The decision to designate any foreign state (or part thereof) is a discretionary decision, and there is no judicial review of any determination with respect to the designation, termination, or extension of a designation. See INA § 244(b)(5)(A); 8 U.S.C. 1254a(b)(5)(A).⁴ The Secretary, in his or her discretion, may then grant TPS to eligible nationals of that foreign state (or individuals having no nationality who last habitually resided in the designated foreign state). See INA § 244(a)(1)(A), 8 U.S.C. 1254a(a)(1)(A).

³ INA § 244(b)(1) assigns this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

⁴ This issue of judicial review is the subject of litigation. See, e.g., Ramos v. Wolf, 975 F.3d 872 (9th Cir. 2020), petition for en banc rehearing filed Nov. 30, 2020 (No. 18-16981).

At least 60 days before the expiration of a foreign state's TPS designation or extension, the Secretary, after consultation with appropriate U.S. Government agencies, must review the conditions in the foreign state designated for TPS to determine whether they continue to meet the conditions for the TPS designation. See INA § 244(b)(3)(A), 8 U.S.C. 1254a(b)(3)(A). If the Secretary determines that the foreign state continues to meet the conditions for TPS designation, the designation will be extended for an additional period of 6 months or, in the Secretary's discretion, 12 or 18 months. See INA § 244(b)(3)(A), (C), 8 U.S.C. 1254a(b)(3)(A), (C). If the Secretary determines that the foreign state no longer meets the conditions for TPS designation, the Secretary must terminate the designation. See INA § 244(b)(3)(B), 8 U.S.C. 1254a(b)(3)(B).

Why was Ethiopia designated for TPS?

DHS has reviewed country conditions in Ethiopia. Based on this review, including input received from Department of State (DOS) and other U.S. Government agencies, the Secretary has determined that an 18-month TPS designation is warranted because ongoing armed conflict and extraordinary and temporary conditions support Ethiopia's TPS designation.

Overview

Ethiopia faces armed conflict in multiple regions of the country resulting in large-scale displacement. In addition, Ethiopia has been experiencing severe climatic shocks exacerbating humanitarian concerns over access to food, water, and healthcare.

Ethiopia's civil war began in November 2020, when a constitutional dispute between Tigray and federal leaders escalated into conflict amid a prolonged power struggle.⁵ Since then, Ethiopian forces and their allies have been accused of pillaging and targeting homes and civilian infrastructure including businesses, hospitals, banks, livestock, and harvests. Tigrayan forces have been accused of these same actions in other regions.⁶ By July 2021, the conflict had spread to Tigray's neighboring regions of Afar and Amhara.⁷ Human rights abuses by all parties to the conflict have been reported, including killings, torture, gender-based violence, arbitrary or unjust detentions, and there have also been potential human trafficking crimes.⁸ On March 24, 2022, the Ethiopian federal government declared a humanitarian truce, which the Tigray forces reciprocated.

⁵ International Crisis Group, Avoiding the Abyss as War Resumes in Northern Ethiopia (Sept. 7, 2022), https://www.crisisgroup.org/africa/horn-africa/ethiopia/avoiding-abyss-war-resumes-northern-ethiopia.

⁶ Human Rights Watch (HRW), Confronting Ethiopia's Abusive Siege (Sept. 2, 2022), https://www.hrw.org/the-day-in-human-rights/2022/09/02.

⁷ HRW, Ethiopia's Other Conflict (July 4, 2022), https://www.hrw.org/news/2022/07/04/ethiopias-other-conflict.

⁸ Id. Also, Department of State, 2022 Trafficking in Persons Report (July 19, 2022), https://www.state.gov/reports/2022-trafficking-in-persons-report/.

With the exception of some limited clashes and shelling incidents, the humanitarian truce held, and the violence drastically decreased.⁹ Humanitarian convoy movements to Tigray resumed on April 1, 2022 and continued until August 2022.¹⁰ On August 24, 2022, a resumption of hostilities marked the breach of the five-month truce.¹¹ On September 1, 2022, Tigray authorities stated that the Ethiopian and Eritrean forces had launched major offensives into the northwestern Tigray region.¹² In an African Union-led process, the Government of Ethiopia and the TPLF signed a cessation of hostilities agreement on November 2, 2022.¹³ While this agreement is an important initial step in curbing violence in northern Ethiopia, it does not address violence in other parts of Ethiopia, and—as of early November 2022—there remains significant humanitarian suffering as a result of the two-year conflict.¹⁴

⁹ Id.

¹⁰ UN Office for the Coordination of Humanitarian Affairs, Ethiopia—Situation Report, 05 Aug 2022 (July 22, 2022), https://reliefweb.int/report/ethiopia/ethiopia-situation-report-05-aug-2022.

¹¹ International Crisis Group, Avoiding the Abyss as War Resumes in Northern Ethiopia (Sept. 7, 2022), https://www.crisisgroup.org/africa/horn-africa/ethiopia/avoiding-abyss-war-resumes-northern-ethiopia.

¹² Id.

¹³ UN News, Ethiopia: Peace agreement between Government and Tigray 'a critical first step': Guterres, Nov. 2, 2022, available at https://news.un.org/en/story/2022/11/1130137 (last accessed Nov. 17, 2022).

¹⁴ Cecelia Macaulay and Anne Soy, BBC News, Ethiopia's Tigray conflict: Truce agreed, Nov. 2, 2022, available at https://www.bbc.com/news/world-africa-63490546 (last accessed Nov. 17, 2022).

Insurgencies are ongoing in Oromia, Benshangul-Gumuz and Gambella regions of Ethiopia.¹⁵ Since 2019, Ethiopian government forces and the Oromo Liberation Army (OLA),¹⁶ also known as the OLF-Shane/Shene, have engaged in clashes in western Oromia. This fighting has resulted in allegations of serious human rights abuses. Government forces have been accused of extrajudicial killings and arbitrary arrests and detentions of Oromos and have at times cut communications in the area. The OLA has been accused of killing government officials and attacking non-military government offices.¹⁷ Deepening insurgencies have also led to increased violence reportedly targeting civilians. This is particularly evident in Oromia. On June 18, 2022, over 330 Amhara civilians were reportedly killed by suspected OLA gunmen in Oromia.¹⁸ Armed Conflict Location and Event Data Project (ACLED) data indicate that over 230 alleged incidents of civilians being targeted were reported in Ethiopia during the first six months of 2022. This reportedly resulted in more than 1,220 fatalities, with over 810 of these fatalities (66%) occurring in Oromia.¹⁹

¹⁵ ACLED, Multiple Complications Threaten to Result in a Dangerous Re-escalation (Aug. 15, 2022), https://acleddata.com/10-conflicts-to-worry-about-in-2022/ethiopia/mid-year-update/.

¹⁶ In September 2018, leaders of a formerly exiled opposition group, the Oromo Liberation Front (OLF), returned to Ethiopia with the support of Prime Minister Abiy's government. However, since the OLF's return, the Ethiopian government has been engaged in conflict with “armed groups associated with it in western Oromia.” The Oromo Liberation Army (OLA), also known as the OLF-Shane/Shene faction, is an armed group that splintered from the OLF. See Canada: Immigration and Refugee Board of Canada, Ethiopia: The Oromo Liberation Front (OLF), including origin, mandate, leadership, structure, legal status, and membership; treatment of members and supporters by authorities (2014-2015) (May 7, 2015), https://www.refworld.org/docid/5696030f4.html.

¹⁷ HRW, Ethiopia: Civilians in Western Oromia Left Unprotected (Aug. 31, 2022), https://www.hrw.org/news/2022/08/31/ethiopia-civilians-western-oromia-left-unprotected.

¹⁸ ACLED, Multiple Complications Threaten to Result in a Dangerous Re-escalation (Aug. 15, 2022), https://acleddata.com/10-conflicts-to-worry-about-in-2022/ethiopia/mid-year-update/.

¹⁹ Id.

Violence in Ethiopia has caused many to flee their homes and has exacerbated existing humanitarian concerns regarding access to food, water, and healthcare. The United Nations Office of Humanitarian Affairs (UNOCHA) noted that regional violence remained a critical concern across Ethiopia, from Benishangul-Gumuz to Oromia to Tigray.²⁰ In the Amhara region, ongoing violence also remains unabated throughout the region, and along its regional borders with Benishangul-Gumuz, Oromia, and Tigray, resulting in displacement.²¹ A September 2022 UNOCHA report stated: “more than 20 million people affected by violence as well as climatic shocks . . . require humanitarian assistance and protection services until the end of 2022.” ²² In July 2022, the UN Children's Fund (UNICEF) estimated that 29.7 million people are in need of humanitarian assistance, including access to food, water, and health services, in Ethiopia. UNICEF also estimated that there were 2.75 million internally displaced persons (IDPs) in Ethiopia.²³ In addition, the UN High Commissioner for Refugees (UNHCR) estimated that there are more than 59,500 Ethiopian refugees in eastern Sudan who have fled violence in Ethiopia.²⁴

²⁰ UNOCHA, Humanitarian Needs Overview- Ethiopia, February 21, 2021, pg. 20, https://www.acaps.org/sites/acaps/files/key-documents/files/ethiopia_2021_humanitarian_needs_overview-compressed.pdf.

²¹ UNOCHA, Ethiopia: Humanitarian Access Snapshot (January-June 2021), July 30, 2021, https://reliefweb.int/report/ethiopia/ethiopia-humanitarian-access-snapshot-january-june-2021.

²² UNOCHA, Ethiopia Situation Overview (Sept. 7, 2022), https://reports.unocha.org/en/country/ethiopia/card/5EhBh4Xf5z/.

²³ UNICEF, Ethiopia Humanitarian Situation Report No. 7 (July 2022), https://www.unicef.org/media/126921/file/Ethiopia%20Humanitarian%20Situation%20Report%20No.%207,%20July%202022.pdf.

²⁴ UNOCHA, Sudan: East Sudan (Kassala & Gedaref) & Blue Nile States—Ethiopian Emergency Situation Update (as of 31 August 2022), (Sept. 14, 2022), https://reliefweb.int/report/sudan/sudan-east-sudan-kassala-gedaref-blue-nile-states-ethiopian-emergency-situation-update-31-august-2022.

Ethiopia faces massive displacement of persons due to armed conflict, intercommunal violence, natural disasters, and impacts of climate change.²⁵ Since June 2020, more than 120,000 people have been displaced due to insecurity in the Benishangul-Gumuz region.²⁶ In the Tigray region, over 2 million people [out of a population of 6 million],²⁷ have been displaced due to the ongoing conflict between the Ethiopian government and TPLF.²⁸

²⁵ UNOCHA, Response to Internal Displacement in Ethiopia Fact Sheet—January to March 2022, (May 19, 2022), https://reliefweb.int/report/ethiopia/response-internal-displacement-ethiopia-fact-sheet-january-march-2022 (Sept. 22, 2022).

²⁶ UNOCHA, Humanitarian Needs Overview—Ethiopia, February 21, 2021, pg. 20, https://www.acaps.org/sites/acaps/files/key-documents/files/ethiopia_2021_humanitarian_needs_overview-compressed.pdf.

²⁷ UNOCHA, Ethiopia: Humanitarian Access Snapshot (January-June 2021), July 30, 2021, https://reliefweb.int/report/ethiopia/ethiopia-humanitarian-access-snapshot-january-june-2021.

²⁸ Id.

An August 2022 report by the UN Food and Agriculture Organization (FAO) stated that, in 2022, 20.4 million people are estimated to be severely food insecure, which is 2.4 million more than in 2021.²⁹ In the Tigray region alone, almost 5.3 million people are estimated to be severely food insecure, according to the same report.³⁰ A September 2022 UNOCHA report stated that 9.9 million people required food assistance and 2.9 million children and pregnant and lactating women required nutrition interventions until the end of 2022.³¹ It further stated that “the level of water scarcity is alarming for both livestock and human consumption.” ³²

²⁹ Food and Agriculture Organization of the United Nations (FAO), GIEWS—Global Information and Early Warning System, Country Briefs, Ethiopia (Aug. 24, 2022), https://www.fao.org/giews/countrybrief/country.jsp?code=ETH&lang=en.

³⁰ UN FAO, GIEWS—Global Information and Early Warning System, Country Briefs, Ethiopia (Aug. 24, 2022), https://www.fao.org/giews/countrybrief/country.jsp?code=ETH&lang=en.

³¹ UNOCHA, Ethiopia Drought Response July-December 2022 (Revised) (Sept. 8, 2022), https://reliefweb.int/report/ethiopia/ethiopia-drought-response-july-december-2022-revised.

³² Id.

Sporadic measles outbreaks and seasonal malaria cases have increased in Southern Nations Nationalities and People's region, Southwest Ethiopia People's region (SWEPR) and Sidama region, following the rainy season.³³ Over 60 cases of measles and 56,000 cases of malaria were reported in July 2022.³⁴ Areas experiencing conflict have seen their local healthcare systems severely damaged and diminished. A July 2022 World Health Organization (WHO) report stated that in the Tigray region, just 22% of health facilities were fully functioning, with 75% only partially functioning, and 3% not functioning at all.³⁵ A June 2022 Doctors Without Borders report stated that only 20% of health facilities in the Afar region were reportedly functioning, “as many are damaged, destroyed, abandoned or without resources.” ³⁶ As of July 2022, only 23.3% of the Ethiopia's population was fully vaccinated against COVID-19.³⁷

³³ UNICEF, Ethiopia Humanitarian Situation Report No. 7 (July 2022), https://www.unicef.org/media/126921/file/Ethiopia%20Humanitarian%20Situation%20Report%20No.%207,%20July%202022.pdf.

³⁴ Id.

³⁵ WHO, Situation Report: Greater Horn of Africa Drought and Food Insecurity Grade 3 Emergency (July 29, 2022), https://cdn.who.int/media/docs/default-source/documents/emergencies/who_ghoa_sitrep_2022-08-08.pdf?sfvrsn=dbdfc8b0_3&download=true.

³⁶ Doctors Without Borders, Conflict and brought spark a deadly malnutrition crisis in Ethiopia's Afar region (June 9, 2022), https://www.doctorswithoutborders.org/latest/conflict-and-drought-spark-deadly-malnutrition-crisis-ethiopias-afar-region.

³⁷ Reuters, COVID-19 Tracker: Ethiopia (July 15, 2022), https://graphics.reuters.com/world-coronavirus-tracker-and-maps/countries-and-territories/ethiopia/.

Ethiopia has been experiencing climate-induced shocks—primarily drought and floods—that have generated further displacement across the country and exacerbated humanitarian concerns. Since late 2020, Ethiopia has been experiencing one of the most severe droughts in the last forty years.³⁸ An August 2022 U.S. Agency for International Development (USAID) report stated that: “the likelihood of a fifth consecutive poor rainy season in 2022 has significantly increased concern. . .that already high levels of acute food insecurity and malnutrition in southern and southeastern Ethiopia will continue through at least the first half of 2023.” ³⁹ Drought conditions have resulted in widespread death of livestock, a key source of food, milk, and income for pastoralists.⁴⁰ Between March and April 2022, the International Organization for Migration (IOM) recorded 20% of all IDPs citing drought as the primary cause of displacement.⁴¹ In April 2022, 7.2 million people in Ethiopia were in need of food assistance due to severe drought.⁴² Additionally, in 2022, heavy rains from early August to October caused flooding that displaced at least 185,200 people and affected an additional 79,631 people.⁴³ “Assessments also revealed that 72 per cent of cropland was damaged (mostly the staple maize).” ⁴⁴

³⁸ UNOCHA, Ethiopia: Drought Update No. 4, June 2022 (June 3, 2022), https://reliefweb.int/report/ethiopia/ethiopia-drought-update-no-4-june-2022.

³⁹ USAID, Horn of Africa—Complex Emergency (Aug. 19, 2022), https://www.usaid.gov/sites/default/files/documents/2022-08-19_USG_Horn_of_Africa_Complex_Emergency_Fact_Sheet_2.pdf.

⁴⁰ Id.

⁴¹ Id.

⁴² World Food Program, Regional Drought Response Plan for the Horn of Africa May-December 2022 (July 1, 2022), https://docs.wfp.org/api/documents/WFP-0000140899/download/.

⁴³ UNOCHA, Ethiopia: Gambella Region Flood Update (As of 21 October 2022), (October 24, 2022), https://reliefweb.int/report/ethiopia/ethiopia-gambella-region-flood-update-21-october-2022#:~:text=In%202022%2C%20heavy%20rains%20from,(15%2C927%20households)%20were%20affected.

⁴⁴ Id.

In addition to violence and climatic shocks, Ethiopia is facing economic pressure, exacerbated by the ongoing armed conflict.⁴⁵ Annual inflation remains high, driven by rising food and fuel costs, which puts pressure on households' ability to access market foods. Ethiopia is experiencing insufficient foreign currency reserves and the continuous depreciation of the national currency, the Ethiopian birr.⁴⁶ Annual inflation in July 2022 was at 33.5%, down slightly from June 2022.⁴⁷

⁴⁵ Vivienne Nunis, BBC News, Ethiopia's economy battered by Tigray war, Aug. 30, 2021, available at https://www.bbc.com/news/world-africa-58319977 (last accessed Nov. 17, 2022); AP News, Ethiopia's economy struggles as war reignites in Tigray, Sept. 13, 2022, available at https://apnews.com/article/africa-economy-government-spending-kenya-826141a7a692574d9609462d2549bffb (last accessed Nov. 17, 2022).

⁴⁶ Food and Agriculture Organization of the United Nations (FAO), GIEWS—Global Information and Early Warning System, Country Briefs, Ethiopia (Aug. 24, 2022), https://www.fao.org/giews/countrybrief/country.jsp?code=ETH&lang=en.

⁴⁷ Famine Early Warning Systems Network (FEWS NET), There is the potential for extreme food insecurity in conflict and drought-affected areas of Ethiopia (July 2022), https://fews.net/east-africa/ethiopia/key-message-update/july-2022.

In summary, Ethiopia is experiencing ongoing armed conflict in multiple regions of the country as well as extraordinary and temporary conditions resulting from drought, flooding, food insecurity, displacement of persons, and other humanitarian concerns.

Notice of the Designation of Ethiopia for TPS

By the authority vested in me as Secretary under INA section 244, 8 U.S.C. 1254a, I have determined, after consultation with the appropriate U.S. Government agencies, the statutory conditions supporting Ethiopia's designation for TPS on the basis of ongoing armed conflict and extraordinary and temporary conditions are met. See INA § 244(b)(1)(A), 8 U.S.C. 1254a(b)(1)(A) and 244(b)(1)(C), 8 U.S.C. 1254a(b)(1)(C). I estimate up to approximately 26,730 individuals may be eligible for TPS under the designation of Ethiopia. On the basis of this determination, I am designating Ethiopia for TPS for 18 months, beginning on December 12, 2022 and ending on Wednesday, June 12, 2024. See INA § 244(b)(1) and (b)(2); 8 U.S.C. 1254a(b)(1), and (b)(2).

Alejandro N. Mayorkas,
Secretary, U.S. Department of Homeland Security.

Eligibility and Employment Authorization for TPS

Required Application Forms and Application Fees To Register for TPS

To register for TPS based on the designation of Ethiopia, you must submit Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are eligible for an EAD, which proves their authorization to work in the United States. You are not required to submit Form I-765, Application for Employment Authorization, or have an EAD to be granted TPS, but see below for more information if you want an EAD to use as proof that you can work in the United States.

For more information on the application forms and fees for TPS, please visit the USCIS TPS web page at https://www.uscis.gov/tps. Fees for the Form I-821, the Form I-765, and biometric services are also described in 8 CFR 106.

How can TPS beneficiaries obtain an Employment Authorization Document (EAD)?

Every employee must provide their employer with documentation showing that they have the legal right to work in the United States. TPS beneficiaries are eligible for an EAD, which proves their legal right to work. Those who want to obtain an EAD must file a Form I-765, Application for Employment Authorization, and pay the Form I-765 fee (or request a fee waiver, which you may submit on Form I-912, Request for Fee Waiver). TPS applicants may file this form along with their TPS application, or at a later date, provided their TPS application is still pending or has been approved.

Refiling an Initial TPS Registration Application After Receiving a Denial of a Fee Waiver Request

If you receive a denial of a fee waiver request, you must refile your Form I-821 for TPS along with the required fees during the registration period, which ends on June 12, 2024. Meanwhile, Form I-765 EAD applications with fee payment may be filed at the same time as your TPS application or at any later date you decide you want to request an EAD during the designation period, which ends on Wednesday, June 12, 2024.

Filing Information

USCIS offers the option to applicants for TPS under Ethiopia's designation to file Form I-821 and related requests for EADs online or by mail. When filing a TPS application, applicants can also request an EAD by submitting a completed Form I-765 with their Form I-821.

Online filing: Form I-821 and I-765 are available for concurrent filing online.⁴⁸ To file these forms online, you must first create a USCIS online account.⁴⁹

⁴⁸ Find information about online filing at “Forms Available to File Online,” https://www.uscis.gov/file-online/forms-available-to-file-online.

⁴⁹ https://myaccount.uscis.gov/users/sign_up.

Mail filing: Mail your application for TPS to the proper address in Table 1.

Table 1—Mailing Addresses

Mail your completed Form I-821, Application for Temporary Protected Status and Form I-765, Application for Employment Authorization, Form I-912, Request for Fee Waiver, if applicable, and supporting documentation to the proper address in Table 1.

Table 1—Mailing Addresses
If . . . | Mail to . . .
You are using the U.S. Postal Service (USPS) | USCIS, Attn: TPS Ethiopia, P.O. Box 8635, Chicago, IL 60680-8635.
You are using FedEx, UPS, or DHL | USCIS, Attn: TPS Ethiopia (Box 8635), 131 S Dearborn—3rd Floor, Chicago, IL 60603-5517.

If you were granted TPS by an immigration judge (IJ) or the Board of Immigration Appeals (BIA) and you wish to request an EAD, please mail your Form I-765 to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (that is, registering) for TPS on the USCIS website at https://www.uscis.gov/tps under “Ethiopia.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797C) showing we accepted or approved your Form I-821 | USCIS, Attn: I-131 TPS, 2501 S State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://www.uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

When I am hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through June 12, 2024, then you must file Form I-765, Application for Employment Authorization, and pay the associated fee (unless USCIS grants your fee waiver request).

Can my employer require that I provide any other documentation such as evidence of my status or proof of my Ethiopian citizenship or a Form I-797 showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Ethiopian citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/crt/immigrant-and-employee-rights-section and the USCIS and E-Verify websites at https://www.uscis.gov/i-9-central and https://www.e-verify.gov.

Note Regarding Federal, State, and Local Government Agencies (Such as Departments of Motor Vehicles)

For Federal purposes, individuals approved for TPS may show their Form I-797, Notice of Action, indicating approval of their Form I-821 application, or EAD with category code of their A-12 or C-19 EAD to prove that they have TPS. However, while Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your new EAD with a TPS category code of A-12 or C-19, even if your country of birth noted on the EAD does not reflect the TPS designated country of Ethiopia;

• Your Form I-94, Arrival/Departure Record;

• Your Form I-797, Notice of Action, reflecting approval of your Form I-765; or

• Your Form I-797 or Form I-797C, Notice of Action, reflecting approval or receipt of a current Form I-821, if you received one from USCIS.

Check with the government agency requesting documentation regarding which document(s) the agency will accept. Some State and local government agencies use the SAVE program to confirm the current immigration status of applicants for public benefits.

SAVE can verify when an individual has TPS based on the documents above. In most cases, SAVE provides an automated electronic response to benefit-granting agencies within seconds, but occasionally verification can be delayed.

You can check the status of your SAVE verification by using CaseCheck at https://www.save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2022-26880 Filed 12-9-22; 8:45 am]

BILLING CODE 9111-97-P